DEPARTMENT OF HOMELAND SECURITY

U.S. Customs and Border Protection

[USCBP-2009-0036]

Notice of Domestic Interested Party Petitioner's Desire To Contest the Tariff Classification Determination of Wickless Wax Objects

AGENCY: U.S. Customs and Border Protection, Department of Homeland Security.

ACTION: Notice of petitioner's desire to contest classification determination.

SUMMARY: On February 18, 2009, the National Candle Association (“petitioner”) filed a domestic interested party petition pursuant to section 516, Tariff Act of 1930, as amended, and 19 CFR part 175 regarding the tariff classification of imported wickless wax objects identified in entry documents as “wax cylinders”, “wax pillars”, “wax blocks”, “wax forms”, “candle jars”, “candle holders”, “religious candle holders”, or “religious candle jars.” The petition challenged Customs and Border Protection's (“CBP's”) classification of wickless wax objects under heading 9602, of the Harmonized Tariff Schedule of the United States (“HTSUS”), as molded or carved articles of wax, and requested that all wickless wax objects be classified under subheading 3406.00.00, HTSUS, as candles, tapers, and the like.

On December 7, 2010, CBP denied the petition and affirmed its decision that wickless wax objects are classified under subheading 9602.00.40, HTSUS, as molded or carved articles of wax. Pursuant to 19 CFR 175.24, CBP is now providing notice of this decision and also providing notice of the receipt of petitioner's desire to contest this decision in court.

DATES: May 12, 2011.

FOR FURTHER INFORMATION CONTACT: Jean-Rene Broussard, Tariff Classification and Marking Branch, Regulations and Rulings, Office of International Trade, (202) 325-0284.

SUPPLEMENTARY INFORMATION:

Background

This document concerns the tariff classification of imported wickless wax objects by CBP and the desire of a domestic interested party to contest CBP's classification decision.

Classification of Wickless Wax Objects

Classification under the HTSUS is made in accordance with the General Rules of Interpretation (GRIs). GRI 1 provides that classification shall be determined according to the terms of the headings and any relative section or chapter notes. Merchandise that cannot be classified in accordance with GRI 1 is to be classified in accordance with subsequent GRIs taken in order. The Explanatory Notes (“ENs”) to the Harmonized Commodity Description and Coding System, which represent the official interpretation of the tariff at the international level, facilitate classification under the HTSUS by offering guidance in understanding the scope of the headings and GRIs.

The wickless wax objects that are the subject of the petition are petroleum based wax products that are in small molded shapes such as blocks, cylinders, columns, triangles, or bowls. The majority of these wickless wax objects are imported with a hole drilled into the center of them. These objects can be used as decorative items or for further production as candles.

CBP has issued numerous rulings on the classification of wickless wax objects. See New York Ruling Letters (“NY”) L85725, dated June 30, 2005; NY L85383, dated June 15, 2005; NY L84761, dated June 2, 2005; NY G88343, dated March 26, 2001; NY G87878, dated March 7, 2001; NY G85945, dated January 16, 2001; NY F82375, dated February 11, 2000; NY F81245, dated January 11, 2000; NY E89220, dated November 8, 1999; NY E87727, dated September 27, 1999; NY E82227, dated May 18, 1999; NY E81505, dated May 12, 1999; and NY D88246, dated March 12, 1999. In all of these rulings CBP consistently held that wickless wax objects were classified under heading 9602, HTSUS, as molded or carved articles of wax.

Filing of Domestic Interested Party Petition

On February 18, 2009, the National Candle Association, in accordance with section 516, Tariff Act of 1930, as amended (19 U.S.C. 1516), filed a domestic interested party petition requesting that CBP reclassify imported wickless wax objects under subheading 3406.00.00, HTSUS, which provides for candles, tapers, and the like. The 2011 column one, general rate of duty, under this provision is duty free. Subheading 9602.00.40 provides for molded or carved articles of wax. The 2011 column one, general rate of duty, for this provision is 1.8 percent ad valorem.

On January 5, 2010, in accordance with 19 CFR 175.21, CBP published a Notice of Receipt of a Domestic Interested Party Petition filed by petitioner in the Federal Register (75 FR 420). The notice invited written comments on the petition from interested parties. The comment period closed on March 8, 2010. Six comments were timely received in response to this notice and were all in support of the petitioner's position that the merchandise should be classified under heading 3406, HTSUS, as candles.

Decision on Petition and Notice of Petitioner's Desire To Contest

On December 7, 2010, CBP issued HQ H105015 which denied the domestic interested party petition and affirmed the tariff classification determination of the imported wickless wax objects as set forth in CBP's previously issued rulings. (A copy of this ruling and the comments submitted by the public can be found at http://www.regulations.gov under Docket No. USCBP-2009-0036). Ruling HQ H105015 officially notified the petitioner that “CBP correctly classified the wax objects described in L85725, dated June 30, 2005; NY L85383, dated June 15, 2005; NY L84761, dated June 2, 2005; NY G88343, dated March 26, 2001; NY G87878, dated March 7, 2001; NY G85945, dated January 16, 2001; NY F82375, dated February 11, 2000; NY F81245, dated January 11, 2000; NY E89220, dated November 8, 1999; NY E87727, dated September 27, 1999; NY E82227, dated May 18, 1999; NY E81505, dated May 12, 1999; and NY D88246, dated March 12, 1999, in heading 9602.00.40, HTSUS, as molded or carved articles of wax by application of GRIs 6 and 1.” In that ruling, CBP also notified the petitioner of its right to file notice of its desire to contest the decision not later than thirty days from the date of issuance of this letter in accordance with section 175.23 of the CBP regulations (19 CFR 175.23).

On January 5, 2011, the National Candle Association timely provided CBP with notice of its desire to contest HQ H105015 in the United States Court of International Trade. The petitioner has identified, in accordance with 19 U.S.C. 1516(c) and 19 CFR 175.23, five ports of entry where it intends to challenge CBP's classification of wickless wax objects identified in entry documentation as “wax cylinders”, “wax pillars”, “wax blocks”, “wax forms”, “candle jars”, “candle holders”, “religious candles holders”, or “religious candle jars” classified in heading 9602, HTSUS. The ports of entry are as follows: Los Angeles/Long Beach, California; New York, New York; Savannah, Georgia; Laredo, Texas; and Chicago, Illinois.

Upon application by the petitioner to any of the Port Directors of the ports listed above, the Port Director(s) must make available to the petitioner information on merchandise entered that meets the description in this notice so that the petitioner may determine whether the entry presented frames the issue that it wishes to present to the court. See 19 CFR 175.25(a) and (c). By this notice, Port Directors at these ports are directed to notify petitioner by mail when the first of such entries is liquidated so that the petitioner may file a summons in the Court of International Trade to challenge CBP's classification of the contested merchandise. See 19 U.S.C. 1516(c); 19 CFR 175.25(b).

As required by both the applicable statute and regulations, CBP is in receipt of the National Candle Association's letter, dated January 5, 2011, establishing the timely notice of its desire to contest in the Court of International Trade CBP's decision letter of HQ H105015 which held that the classification of imported wickless wax objects is under subheading 9602.00.40, HTSUS, as molded or carved articles of wax.

Authority: This notice is published in accordance with 19 U.S.C. 1516 and sections 175.23 and 175.24 of the CBP regulations (19 CFR 175.23-24).

Dated: May 6, 2011.
Alan D. Bersin,
Commissioner, U.S. Customs and Border Protection.

[FR Doc. 2011-11608 Filed 5-11-11; 8:45 am]

BILLING CODE 9111-14-P